DEPARTMENT OF DEFENSE

Office of the Secretary

Defense Science Board

ACTION: Cancellation of Advisory Committee Meeting.

SUMMARY: The Defense Science Board Task Force on Systems Technology for the Future U.S. Strategic Posture meeting scheduled for March 29-30, 2001, has been cancelled.

Dated: March 28, 2001.
L.M. Bynum,
Alternate OSD Federal Register Liaison Officer, Department of Defense.

[FR Doc. 01-8071 Filed 4-2-01; 8:45 am]

BILLING CODE 5001-10-M